DEPARTMENT OF TRANSPORTATION

Federal Aviation Administration

Research, Engineering and Development (R,E&D) Advisory Committee; Meeting

Pursuant to section 10(A)(2) of the Federal Advisory Committee Act (Public Law 92-463; 5 U.S.C. App. 2), notice is hereby given of a meeting of the FAA Research, Engineering and Development (R,E&D) Advisory Committee.

AGENCY: Federal Aviation Administration, DOT.

ACTION: Notice of meeting.

Name: Research, Engineering & Development Advisory Committee.

Time and Date: April 17-9 a.m.-5 p.m.; April 18-8 a.m.-3 p.m.

Place: Holiday Inn Rosslyn Westpark Hotel, 1900 North Fort Myer Drive, Arlington, Virginia 22209.

Purpose: The meeting agenda will include receiving recommendations from the standing Subcommittees on FAA's research and development investments for fiscal year 2003 in the areas of air traffic services, airports, aircraft safety, security, human factors and environment and energy. The Federal Transportation Advisory Group plans to present its report “Vision 2050: An Integrated Transportation System.” The Small Aircraft Transportation (SATS) ad hoc Subcommittee and the Tiltrotor and Advanced Rotorcraft Technology in the NAS ad hoc Subcommittee will also present reports.

Attendance is open to the interested public but limited to space available. Persons wishing to attend the meeting or obtain information should contact Gloria Dunderman at the Federal Aviation Administration, AAR-200, 800 Independence Avenue, SW., Washington, DC 20591 (202) 267-8937. Please inform us if you are in need of assistance or require a reasonable accommodation for this meeting.

Members of the public may present a written statement to the Committee at any time.

Issued in Washington, DC on March 9, 2001.
Herman A. Rediess,
Director, Office of Aviation Research.

[FR Doc. 01-6533 Filed 3-15-01; 8:45 am]

BILLING CODE 4910-13-M